DEPARTMENT OF HEALTH AND HUMAN SERVICES

Administration for Children and Families

[ACYF/FYSB 0002-2004]

Notice of Technical Assistance Meetings for the Mentoring Children of Prisoners Program Announcement

AGENCY: Administration on Children, Youth, and Families, ACF, DHHS.

ACTION: Notice of meeting.

SUMMARY: This notice is to inform interested parties of the availability of technical assistance meetings for the Mentoring Children of Prisoners Program Announcement that was published in the Federal Register on February 23, 2004.

FOR FURTHER INFORMATION CONTACT: Susan Spangnuolo, Mid Atlantic Network of Youth and Family Services (MANY); 135 Cumberland Rd. Suite 201; Pittsburgh, PA 15237; 412-366-6562; 412-366-5407 fax; susan@manynet.org.

SUPPLEMENTARY INFORMATION: The Mentoring Children of Prisoners grant program is administered through the Family and Youth Services Bureau (FYSB). Through the Mentoring Children of Prisoners Program, FYSB awards grants to community- and faith-based organizations that provide children and youth of incarcerated parents with mentors. Each mentoring program is designed to ensure that mentors provide young people with safe and trusting relationships; healthy messages about life and social behavior; appropriate guidance from a positive adult role model; and opportunities for increased participation in education, civic service, and community activities.

FYSB is currently soliciting for applications to carry out the mentoring activities described in the program announcement that was published in the Federal Register on February 23, 2004. Applications for the Mentoring Children of Prisoners program are due April 23, 2004.

MANY will provide technical assistance to interested parties about the Mentoring Children of Prisoners Program and grant opportunity through workshops. You must register for the workshops in advance through the contact listed above. If you require special accommodations to attend or participate in this meeting, please provide information regarding your requirements at the time of registration.

Workshop meeting places and times:

March 8, 2004—9:30 a.m.-4 p.m. | Westin Crown Center, 1 Pershing Road, Kansas City, MO 64108, Meeting Room: Pershing Place West | Kansas City, MO.
March 9, 2004—9:30 a.m.-4 p.m. | Hilton Jacksonville, 1201 Riverplace Blvd., Jacksonville, Florida 32207, Meeting Room: St. Johns | Jacksonville, FL.
March 9, 2004—9:30 a.m.-4 p.m. | Radisson Hotel Toledo, 101 North Summit Street, Toledo, Ohio 43604, Meeting Room: Ballroom 1 | Toledo, OH.
March 10, 2004—9:30 a.m.-4 p.m. | Positively Oak Cliff, 3107 West Camp Wisdom Road, Suite 980, Dallas, TX 75237 | Dallas, TX.
March 10, 2004—9:30 a.m.-4 p.m. | NJ Department of Corrections, Central Office, Stuyvesant Ave. & Whittlesey Road, Trenton, New Jersey 08625 | Trenton, NJ.

Interested parties should contact Susan Spanguolo; MANY; 135 Cumberland Road; Suite 201 Pittsburgh, PA 15237; 412-366-6562; 412-366-5407 fax; susan@manynet.org to register for the meeting.

Dated: March 2, 2004.
Joan E. Ohl,
Commissioner, Administration on Children, Youth and Families.

[FR Doc. 04-5132 Filed 3-5-04; 8:45 am]

BILLING CODE 4184-01-M